DEPARTMENT OF AGRICULTURE

Natural Resources Conservation Service

Notice of Availability of Proposed Changes in the NRCS New Mexico FOTG, Section IV, Conservation Practices for Review and Comment

SUMMARY: It is the intention of NRCS New Mexico to issue a series of new conservation practice standards and specifications in its FOTG on Conservation Practices. These revised standards and specifications include: 313—Waste Storage Facility, 359—Waste Treatment Lagoon, 380—Windbreak/Shelterbelt Establishment, 391A—Riparian Forest Buffer, 394—Firebreak, 472—Use Exclusion, 490—Site Preparation for Woody Plant Establishment, 562—Recreation Area Improvement, 590—Nutrient Management, 612—Tree and Shrub Establishment, 633—Waste Utilization, 650—Windbreak/Shelterbelt Renovation, 660A—Tree and Shrub Pruning, and 666—Forest Stand Improvement.

The NRCS New Mexico State Conservationist has chosen to revise and supplement the National Standards and add specifications adapted to the State of New Mexico. These will be incorporated into Section IV of the New Mexico Field Office Technical Guide (FOTG). Some of these practices may be used in conservation systems that treat highly erodible land and wetlands.

Copies of these standards are available from NRCS in Albuquerque, NM and are also available electronically on the NRCS New Mexico Internet Homepage at: http://www.nm.nrcs.usda.gov/techserv/sec4home.htm.

SUPPLEMENTARY INFORMATION: Section 343 on the Federal Agriculture Improvement and Reform Act of 1996 states that revisions made after enactment of the law to NRCS State technical guides used to carry out highly erodible land and wetland provisions of the law shall be made available for public review and comment. For the next 30 days the NRCS will receive comments relative to these proposed changes. Following that period a determination will be made by the NRCS regarding disposition of those comments and a final determination of change will be made.

DATES: Comments will be received on or before September 29, 2000.

ADDRESSES: Inquire in writing to Mr. Rosendo Trevino, State Conservationist, NRCS, 6200 Jefferson NE, Suite 305, Albuquerque, NM 87109.

Authority: 16 U.S.C. 3801; Pub. L. 104-127.

Rosendo Trevino III,
State Conservationist.

[FR Doc. 00-22115 Filed 8-29-00; 8:45 am]

BILLING CODE 3410-16-P